DEPARTMENT OF THE TREASURY

Internal Revenue Service

26 CFR Part 1

[TD 9406]

RIN 1545-BH03

Modifications to Subpart F Treatment of Aircraft and Vessel Leasing Income; Correction

AGENCY: Internal Revenue Service (IRS), Treasury.

ACTION: Correcting amendment.

SUMMARY: This document contains a correction to final and temporary regulations (TD 9406) that was published in the Federal Register on Thursday, July 3, 2008 (73 FR 38113) addressing the treatment of certain income and assets related to the leasing of aircraft or vessels in foreign commerce under sections 367, 954, and 956 of the Internal Revenue Code. The regulations reflect statutory changes made by section 415 of the American Jobs Creation Act of 2004. In general, the regulations will affect the United States shareholders of controlled foreign corporations that derive income from the leasing of aircraft or vessels in foreign commerce and U.S. persons that transfer property subject to these leases to a foreign corporation.

DATES: This correction is effective July 29, 2008, and is applicable on July 3, 2008.

FOR FURTHER INFORMATION CONTACT: Concerning the temporary regulations under section 367, John H. Seibert at (202) 622-3860; concerning the temporary regulations under section 954 or 956, Paul J. Carlino at (202) 622-3840 (not toll-free numbers).

SUPPLEMENTARY INFORMATION:

Background

The final and temporary regulations that are the subjects of this document are under sections 367, 954, and 956 of the Internal Revenue Code.

Need for Correction

As published, final and temporary regulations (TD 9406) contain an error that may prove to be misleading and is in need of clarification.

List of Subjects in 26 CFR Part 1

Income taxes, Reporting and recordkeeping requirements.

Correction of Publication

Accordingly, 26 CFR part 1 is corrected by making the following correcting amendment:

PART 1—INCOME TAXES

Paragraph 1. The authority citation for part 1 continues to read, in part, as follows:

Authority: 26 U.S.C. 7805 * * *

Par. 2. Section 1.954-2(c)(2) is amended by adding paragraph (vii) to read as follows:

§ 1.954-2 Foreign personal holding company income.

* * * * *

(c) * * *

(2) * * *

(vii) [Reserved]. For further guidance, see § 1.954-2T(c)(2)(vii).

* * * * *

LaNita Van Dyke,
Chief, Publications and Regulations Branch, Legal Processing Division, Associate Chief Counsel (Procedure and Administration).

[FR Doc. E8-17269 Filed 7-28-08; 8:45 am]

BILLING CODE 4830-01-P